DEPARTMENT OF HOUSING AND URBAN DEVELOPMENT

[Docket No. FR-5603-N-04]

Notice of Submission of Proposed Information Collection to OMB: Study of Public Housing Agencies' Engagement With Homeless Households

AGENCY: Office of the Chief Information Officer, HUD.

ACTION: Notice.

SUMMARY: The proposed information collection requirement described below has been submitted to the Office of Management and Budget (OMB) for review, as required by the Paperwork Reduction Act. The Department is soliciting public comments on the subject proposal.

HUD is sponsoring this research effort to explore and document how public housing agencies (PHAs) currently serve and interact with homeless households. The goal of the study is to establish a baseline level of PHAs' current engagement in serving homeless households and to better understand the current opportunities provided by PHAs that either have an explicit preference for homeless households or that target assistance to homeless households in other ways.

DATES: Comments Due Date: February 24, 2012.

ADDRESSES: Interested persons are invited to submit comments regarding this proposal. Comments should refer to the proposal by name and/or OMB approval Number (2528—New) and should be sent to: HUD Desk Officer, Office of Management and Budget, New Executive Office Building, Washington, DC 20503; fax: (202) 395-5806. Email: OIRA_Submission@omb.eop.gov fax: (202) 395-5806.

FOR FURTHER INFORMATION CONTACT: Colette Pollard., Reports Management Officer, QDAM, Department of Housing and Urban Development, 451 Seventh Street SW., Washington, DC 20410; email Colette Pollard at Colette.Pollard@hud.gov., or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: Study of Public Housing Agencies' Engagement with Homeless Households.

OMB Approval Number: 2528—New.

Form Numbers: None.

Description of the Need for the Information and its Proposed Use:

HUD is sponsoring this research effort to explore and document how public housing agencies (PHAs) currently serve and interact with homeless households. The goal of the study is to establish a baseline level of PHAs' current engagement in serving homeless households and to better understand the current opportunities provided by PHAs that either have an explicit preference for homeless households or that target assistance to homeless households in other ways.

Frequency of Submission: Once.

| Number of respondents | Annual responses | × | Hours per response | = | Burden hours
Reporting Burden | 3,268 | 1 |  | 0.333 |  | 1,089

Total Estimated Burden Hours: 1,089.

Status: New collection.

Authority: Section 3507 of the Paperwork Reduction Act of 1995, 44 U.S.C. 35, as amended.

Dated: January 18, 2012.
Colette Pollard,
Departmental Reports Management Officer, Office of the Chief Information Officer.

[FR Doc. 2012-1426 Filed 1-24-12; 8:45 am]

BILLING CODE 4210-67-P